FEDERAL COMMUNICATIONS COMMISSION

47 CFR Part 73

[MB Docket No. 12-271; RM-11678; DA 14-1683]

Radio Broadcasting Services; Pike Road, AL

AGENCY: Federal Communications Commission.

ACTION: Proposal rule; denial.

SUMMARY: The Audio Division denies the Petition for Rule Making filed by Alatron Corporation, Inc., proposing the allotment of FM Channel 228A at Pike Road, Alabama. The petition was denied because a counterproposal, consisting of three minor change applications, was granted instead: Application of Southeast Alabama Broadcasters, LLC, to upgrade the facilities of Station WDLA(FM), to 280C2, Fort Rucker, Alabama. The application of Gulf South Communications, Inc., to change the community of license for Station WDJR(FM), to Hartford, Alabama, and the application of Gulf South Communications, Inc., to change the channel and community of license for Station WDBT(FM), to Channel 228A, Hope Hull, Alabama. The license for Station WAAO-FM, Andalusia, Alabama will be modified to specify operation on Channel 229A.

DATES: This is a synopsis of the Report and Order, MB Docket No. 12-271, adopted November 20, 2014, and released November 21, 2014.

FOR FURTHER INFORMATION CONTACT: Deborah A. Dupont, Media Bureau, (202) 418-2700.

SUPPLEMENTARY INFORMATION: This is a synopsis of the Report and Order, MB Docket No. 12-271, adopted November 20, 2014, and released November 21, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain information collection requirements subject to the Paperwork Reduction Act of 1995, Public Law 104-13. This document is not subject to the Congressional Review Act. (The Commission is not required to submit a copy of this Report and Order to Government Accountability Office, pursuant to the Congressional Review Act, see 5 U.S.C. 801(a)(1)(A) because no rule changes were made).

Federal Communications Commission.
Nazifa Sawez,
Assistant Chief, Audio Division, Media Bureau.

[FR Doc. 2014-29446 Filed 12-16-14; 8:45 am]

BILLING CODE 6712-01-P